DEPARTMENT OF COMMERCE

National Oceanic and Atmospheric Administration

RIN 0648-XF116

Endangered Species; File Nos. 19641, 17861, 20314, 20340, 20347, 20351, 20528, 20548, and 20651

AGENCY: National Marine Fisheries Service (NMFS), National Oceanic and Atmospheric Administration (NOAA), Commerce.

ACTION: Notice; receipt of applications.

SUMMARY: Notice is hereby given that nine applicants have applied in due form for permits to take Atlantic sturgeon (Acipenser oxyrinchus oxyrinchus) and shortnose sturgeon (Acipenser brevirostrum) for purposes of scientific research.

DATES: Written, telefaxed, or email comments must be received on or before February 17, 2017.

ADDRESSES: The applications and related documents are available for review by selecting “Records Open for Public Comment” from the “Features” box on the Applications and Permits for Protected Species (APPS) home page, https://apps.nmfs.noaa.gov, and then selecting corresponding File No. from the list of available applications.

These documents are also available upon written request or by appointment in the Permits and Conservation Division, Office of Protected Resources, NMFS, 1315 East-West Highway, Room 13705, Silver Spring, MD 20910; phone (301) 427-8401; fax (301) 713-0376.

Written comments on the applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application(s) would be appropriate.

FOR FURTHER INFORMATION CONTACT: Malcolm Mohead or Erin Markin, (301) 427-8401.

SUPPLEMENTARY INFORMATION: The subject permits are requested under the authority of the Endangered Species Act of 1973, as amended (ESA; 16 U.S.C. 1531 et seq.) and the regulations governing the taking, importing, and exporting of endangered and threatened species (50 CFR parts 222-226).

Each application is summarized below. Please refer to the associated application for specific take numbers. Permits may be valid for up to 10 years.

File No. 19641: Tom Savory, Connecticut Department of Energy and Environmental Protection, Marine Fisheries, P.O. Box 719, Old Lyme, CT 06371, requests a permit to collect, examine and tag shortnose and Atlantic sturgeon in Connecticut waters. Shortnose sturgeon research would be conducted in the Connecticut River from the mouth to the Holyoke Dam. Researchers would monitor for presence, abundance, age and sex composition, habitat utilization, and seasonal movement. Atlantic and shortnose sturgeon would be measured, tissue sampled, passive integrated transponder (PIT) tagged, photographed, and weighed prior to release. A subset of fish also would be fin ray sampled, blood sampled, acoustic tagged, and gastric lavaged. Up to three sturgeon of each species may unintentionally die annually during research.

File No. 17861: Douglas Peterson, University of Georgia Warnell School of Forestry and Natural Resources Fisheries Division, Athens, GA 30602, requests a permit to better understand the ecology, population dynamics, and status of Atlantic and shortnose sturgeon in Georgia and Florida river systems. Spring and fall sampling would occur for Atlantic and shortnose. Fish would be PIT tagged, tissue sampled, measured, and weighed prior to release. A subset of fish would be acoustically tagged, fin ray sampled for aging, blood sampled, gonadal sampled, and endoscopic sex determination. Early life stages of each species would be intentionally collected and killed to document occurrence of spawning in systems. Up to eight Atlantic sturgeon and six shortnose sturgeon may unintentionally die annually in all river systems.

File No. 20314: Albert Spells, U.S. Fish and Wildlife Service, 11110 Kimages Road, Charles City 23030, requests a permit to conduct research in Maryland and Virginia tributaries to the Chesapeake Bay as well as within the Chesapeake Bay proper. The objectives of the research are to (1) identify the overall health of the DPS, (2) monitor reproductive success, spawning adult and juvenile abundance in tributaries, and (3) evaluate movement patterns and habitat preferences in and between tributaries of the Bay. Sampling gear would include anchored/floating gillnets and other nets. Fish would be PIT tagged, tissue sampled, measured, and weighed prior to release. Individual fish would receive a T-bar, acoustic, and/or satellite tag. A subset of fish would be fin ray sampled. Early life stages of Atlantic sturgeon would be intentionally collected and killed to document occurrence of spawning in systems. Up to two Atlantic sturgeon may unintentionally die annually during research.

File No. 20340: Kim McKown, New York State Department of Environmental Conservation, 205 Belle Mead Road, East Setuaket, NY 11733, requests a permit to conduct research on Atlantic and shortnose sturgeon to determine movement of adult sturgeon in the Hyde Park area, movement of age-1 sturgeon in the Hudson River, population estimates, and habitat utilization. Fish would be collected by gill nets year-round during ice-free periods. Studies would involve acoustic telemetry and mark-recapture. Upon capture, fish would be measured, weighed, PIT tagged, tissue sampled, and photographed. A subset of fish would be externally and/or internally tagged, fin ray sampled for aging, gastric lavaged, gonadal biopsied, and blood sampled. Early life stages of Atlantic sturgeon would be intentionally collected and killed to document occurrence of spawning in systems. Up to four Atlantic sturgeon and three shortnose sturgeon may unintentionally die annually during research.

File 20347: Gayle Zydlewski, University of Maine, requests a permit to conduct research on Atlantic and shortnose sturgeon to (1) determine spawning periodicity and age class distribution, and (2) identify critical habitat and movement within and between river systems. Research on Atlantic and shortnose sturgeon in the Gulf of Maine would continue in several river systems: Penobscot River, Kennebec River, Saco River, and Merrimack River. All sampling would occur in riverine or near coastal areas annually. Adults, subadults, and juveniles would be sampled with gill nets, trammel nets, trot lines, and a miniature Missouri trawl in the spring, summer, and fall annually. Upon capture, fish would be measured, weighed, PIT tagged, tissue sampled, and photographed. A subset of fish would be acoustically tagged, fin ray, apical scute sampled, gastric lavaged, borescopy, and blood sampled. Early life stages of each species would be intentionally collected and killed to document occurrence of spawning in systems. Up to four sturgeon of each species may unintentionally die annually during research.

File No. 20351: Michael Frisk, the School of Marine and Atmospheric Sciences, Stony Brook University, Stony Brook, NY 11794, requests a permit to conduct research on Atlantic and shortnose sturgeon to continue a long-term study examining the movements among and within Atlantic sturgeon marine aggregation areas located in New York, New Jersey, Delaware, and Connecticut waters and to conduct research to examine (1) sex-specific movements, (2) genetic stock identification, and (3) acquisition of diet, age, and parasite-prevalence data. Additional research would target adults within the marine aggregation areas, and target early life stage and juvenile Atlantic and shortnose sturgeon within riverine and estuarine areas of the Hudson and Delaware Rivers. Upon capture, fish would be measured, weighed, PIT tagged, tissue sampled, and photographed. A subset of fish would be externally and/or internally tagged, fin ray sampled, gastric lavaged, gonadal sampled, apical scute sampled, ultrasound, and blood sampled. Early life stages of each species would be intentionally collected and killed to document occurrence of spawning in systems. Up to three Atlantic sturgeon and two shortnose sturgeon may unintentionally die annually during research.

File No. 20528: Bill Post, South Carolina Department of Natural Resources, 217 Fort Johnson Road, Charleston, SC 29412, requests a permit to conduct research on Atlantic and shortnose sturgeon to determine their presence, status, health, habitat use, and movements in South Carolina waters. Studies would involve using gill nets to capture fish. Upon capture, fish would be measured, weighed, PIT tagged, tissue sampled, and photographed. A subset of individuals would be acoustically tagged, fin ray sampled, and gonadal biopsied. Early life stages of each species would be intentionally collected and killed to document occurrence of spawning in systems. Up to two sturgeon of each species may unintentionally die annually during research.

File No. 20548: Dewayne Fox, Delaware State University, Department of Agriculture and Natural Resources, 1200 North DuPont Highway, Dover, DE 19901, requests a permit to conduct research on Atlantic and shortnose sturgeon using gillnets, D-ring nets, egg pad collectors, biotelemetry, and hydroacoustic tools in the Delaware River/Estuary, Hudson River/Estuary, and coastal environment between Virginia and New York to develop quantitative estimates of run size, recruitment, and habitat assessment. Upon capture, fish would be measured, weighed, PIT tagged, tissue sampled, and photographed. A subset of individuals would be externally and/or internally tagged, fin ray sampled, blood sampled, and gonadal biopsied. Early life stages of Atlantic sturgeon would be intentionally collected and killed to document occurrence of spawning in systems. Up to one sturgeon of each species may unintentionally die annually during research.

File No. 20651: Anthony Vitale, Entergy Indian Point, 450 Broadway, Buchanan, NY 10511, requests a permit to conduct research on Atlantic and shortnose sturgeon for the Hudson River Biological Monitoring Program (HRBMP) using trawls and seines. The HRBMP takes place within in the Hudson River estuary and involves fisheries sampling to monitor ichthyoplankton and juvenile fish abundance and distribution from Battery Park, Manhattan, upstream to Troy Dam during March through October, and in portions of New York Harbor during November through April. Upon capture, individual fish would be measured, weighed, PIT tagged, tissue sampled, and photographed. Early life stages of each species would be intentionally collected and killed to document occurrence of spawning in systems.

Dated: January 11, 2017.
Julia Harrison,
Chief, Permits and Conservation Division, Office of Protected Resources, National Marine Fisheries Service.

[FR Doc. 2017-00956 Filed 1-17-17; 8:45 am]

BILLING CODE 3510-22-P